MARINE MAMMAL COMMISSION

Sunshine Act Meetings

TIME AND DATE: The Marine Mammal Commission will meet in open session on Tuesday, 12 March 2013, in Seattle, Washington, from 9:00 a.m. to 5:00 p.m., and on Tuesday, 26 March 2013, in Honolulu, Hawaii, from 9:00 a.m. to 5:00 p.m.

PLACE: The meeting on Tuesday, 12 March 2013, will be held in the Traynor Room (Room 2076) in Building 4 at the National Oceanic and Atmospheric Administration's Western Regional Center, 7600 Sand Point Way NE., Seattle, Washington, 98115. The meeting on Tuesday, 26 March 2013, will be held in the 11th Floor Conference Room at the National Marine Fisheries Service's Pacific Islands Regional Office, Suite 1110, 1601 Kapiolani Boulevard, Honolulu, Hawaii, 96814.

STATUS: The Commission expects that all portions of these meetings will be open to the public. It will allow public participation as time permits and as determined to be desirable by the Chairman. Should it be determined that it is appropriate to close a portion of either meeting to the public, any such closure will be carried out in accordance with applicable regulations (50 CFR 560.5 and 560.6).

Seating for members of the public at these meetings may be limited. The Commission therefore asks that those intending to attend either meeting advise it in advance by sending an email to the Commission at mmc@mmc.gov or by calling (301) 504-0087. Members of the public will need to present valid, government-issued photo identification to enter the buildings where the meetings will be held.

MATTERS TO BE CONSIDERED: The Commission plans to meet with regional management and scientific officials in each of the National Marine Fisheries Service's six regions to identify the most pressing marine mammal research and management needs. The Commission will use these meetings to develop a set of national priorities for guiding federal conservation efforts for marine mammals. Members of the public are invited to attend these meetings and to provide comments concerning priority issues. Those unable to attend any of the meetings may submit comments in writing. Written comments should be sent to Timothy J. Ragen, Executive Director, Marine Mammal Commission, 4340 East-West Highway, Room 700, Bethesda, Maryland 20814.

The Commission already has met with officials in the National Marine Fisheries Service's four other regions. The fifth and sixth meetings will be held in the National Marine Fisheries Service's Northwest and Pacific Islands Regions. The Commission also may meet with staff at the National Marine Fisheries Service's Headquarter in Silver Spring, Maryland as part of its review of marine mammal research and management needs. If so, a notice of that meeting will be published in the Federal Register and posted on the Commission's Web site (http://www.mmc.gov) when the date and location are confirmed.

CONTACT PERSON FOR MORE INFORMATION: Timothy J. Ragen, Executive Director, Marine Mammal Commission, 4340 East-West Highway, Room 700, Bethesda, MD 20814; (301) 504-0087; email: tragen@mmc.gov.

Dated: February 26, 2013.
Michael L. Gosliner,
General Counsel.

[FR Doc. 2013-04848 Filed 2-26-13; 4:15 pm]

BILLING CODE 6820-31-P